DEPARTMENT OF COMMERCE

National Oceanic and Atmospheric Administration

[I.D. 032502D]

Notice of Availability of Draft Stock Assessment Reports

AGENCY: National Marine Fisheries Service (NMFS), National Oceanic and Atmospheric Administration (NOAA), Commerce.

ACTION: Notice of availability; request for comments.

SUMMARY: NMFS revised the Alaska, Atlantic and Gulf of Mexico, and Pacific marine mammal stock assessment reports (SARs) in accordance with the Marine Mammal Protection Act (MMPA). Draft 2002 reports are available for public review and comment.

DATES: Comments must be received by July 18, 2002.

ADDRESSES: Send comments or requests for copies of reports to: Chief, Marine Mammal Conservation Division, Office of Protected Resources, National Marine Fisheries Service, 1315 East-West Highway, Silver Spring, MD 20910-3226, Attn: Stock Assessments. Comments may also be sent via facsimile (fax) to 301-713-0376. NMFS will not accept comments submitted via e-mail or Internet.

Copies of the Alaska Regional SARs may be requested from Robyn Angliss, Alaska Fisheries Science Center, NMFS, 7600 Sand Point Way, NE BIN 15700, Seattle, WA 98115-0070.

Copies of the Atlantic and Gulf of Mexico Regional SARs may be requested from Janeen Quintal, Northeast Fisheries Science Center, 166 Water St., Woods Hole, MA 02543 or Steven Swartz, Southeast Fisheries Science Center, 75 Virginia Beach Dr., Miami, FL 33149.

Copies of the Pacific Regional SARs may be requested from Cathy Campbell, Southwest Regional Office, NMFS, 501 West Ocean Boulevard, Long Beach, CA 90802-4213.

FOR FURTHER INFORMATION CONTACT: Tom Eagle, Office of Protected Resources, 301-713-2322, ext. 105, e-mail Tom.Eagle@noaa.gov; Robyn Angliss 206-526-4032, e-mail Robyn.Angliss@noaa.gov, regarding Alaska regional stock assessments; Janeen Quintal, 508-495-2252, e-mail Janeen.Quintal@noaa.gov, regarding Northwest Atlantic regional stock assessments; Steven Swartz, 305-361-4487, e-mail Steven.Swartz@noaa.gov, regarding Mid-Atlantic and Gulf of Mexico regional stock assessments; or Cathy.Campbell, 562-280-4060, e-mail Cathy.E.Campbell@noaa.gov, regarding Pacific regional stock assessments.

SUPPLEMENTARY INFORMATION:

Electronic Access

All stock assessment reports and the guidelines for preparing them are available via the Internet at http://www.nmfs.noaa.gov/prot_res/PR2/Stock_Assessment_Program/sars.html.

Background

Section 117 of the Marine Mammal Protection Act (MMPA) (16 U.S.C. 1361 et seq.) requires NMFS and the U.S. Fish and Wildlife Service (FWS) to prepare stock assessments for each stock of marine mammals that occurs in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available and at least once every 3 years for non-strategic stocks. NMFS and the FWS are required to revise a SAR if the status of the stock has changed or can be more accurately determined. NMFS, in conjunction with the Alaska, Atlantic, and Pacific Scientific Review Groups, reviewed the status of marine mammal stocks as required and revised reports for which new information was available. Summary tables for all stocks of marine mammals in the three regions (Tables 1-3) indicate revisions to the SARs. NMFS solicits public comments on the draft Alaska, Atlantic and Gulf of Mexico, and Pacific reports.

Distribution

NMFS is considering distributing SARs in electronic form using Compact Disks (CDs) rather than paper copies. Distribution on CDs would facilitate ease of use by any interested constituents and substantially reduce costs of production and distribution. NMFS seeks comments on distribution of future reports as CDs, rather than paper form in addition to comments on regional SARs.

Alaska Stocks

The Alaska SARs present revised stock assessments for 15 marine mammal stocks under NMFS' jurisdiction. The new information on abundance and mortality did not change the status of any of the Alaska stocks from the 2001 SARs. The major changes in the 2002 Alaska SARs are: (1) New estimates of subsistence harvest for ringed seals, ribbon seals, spotted seals, and bearded seals, which in some cases, are substantially higher than the 2001 estimates. (2) The Eastern North Pacific transient killer whale stock was moved from the Pacific SARs to the Alaska SARs. (3) The Eastern North Pacific gray whale SAR includes new information about the high number of gray whales found stranded in 1999 and 2000 and identifies hypotheses for the increase in mortality. The SAR also includes preliminary data from 2001 to demonstrate that the stranding level has returned to “normal” after the mortality event.

Table 1 contains a summary, by species, of the new information for all strategic stocks, and non-strategic stocks reviewed in late 2001, leading to the revision of the following SARs for 2002:

Alaska stock of bearded seals;

Beaufort Sea stock of beluga whales;

Eastern Chukchi Sea stock of beluga whales;

Eastern Bering Sea stock of beluga whales;

Bristol Bay stock of beluga whales;

Western Arctic stock of bowhead whales;

Eastern North Pacific stock of gray whales;

Central North Pacific stock of humpback whales;

Eastern North Pacific transient stock of killer whales;

Eastern North Pacific stock of northern fur seals;

Alaska stock of ribbon seals;

Alaska stock of ringed seal;

Alaska stock of spotted seal;

Eastern and Western U. S. stock of Steller sea lion;

BILLING CODE 3510-22-S

Atlantic and Gulf of Mexico Stocks

Major revisions and updating of Atlantic SARs were only completed for Atlantic Coast strategic stocks and Atlantic Coast and Gulf of Mexico stocks for which significant new information were available.

The SAR for the Western North Atlantic coastal stock of bottlenose dolphins was revised substantially to incorporate the latest information available related to stock structure. Although a single stock is identified, that stock is divided into seven management units, and unit-specific abundance, mortality and potential biological removal (PBR) levels are included. The draft 2002 SAR for the stock initiates a process through which NMFS will continue to collect information to revise stock structure of coastal bottlenose dolphins in the Atlantic Ocean, revise this stock structure as needed, re-assess the status of each stock as it is identified, and revise the depletion regulations for Atlantic coastal bottlenose dolphins as needed.

Table 2 contains a summary, by species, of the information included in the stock assessments, and also indicates those that have been revised since the 1995 publication. A total of 23 of the 60 Atlantic and Gulf of Mexico stock assessment reports were revised for 2002. Most proposed changes incorporate new information into mortality estimates. The revised SARs include 14 strategic and 9 non-strategic stocks. The status of pygmy sperm whale, Western North Atlantic stock, has been changed to strategic because fishing mortality exceeds PBR. Information on human interactions (fishery and ship strikes) for the North Atlantic right whale, North Atlantic humpback whale, and Canadian east coast minke whale stocks were reviewed and updated. The following stock assessments were revised for 2002:

Western North Atlantic stock of North Atlantic right whales;

Gulf of Maine stock of humpback whales;

Western North Atlantic stock of fin whales;

Canadian east coast stock of minke whales;

Western North Atlantic stock of blue whales;

Western North Atlantic stock of dwarf sperm whales;

Western North Atlantic stock of pygmy sperm whales;

Western North Atlantic stock of risso's dolphins;

Western North Atlantic stock of pilot whales, long-finned;

Western North Atlantic stock of pilot whales, short-finned;

Western North Atlantic stock of Atlantic white-sided dolphins;

Western North Atlantic stock of common dolphins;

Western North Atlantic stock of pantropical spotted dolphins;

Western North Atlantic, offshore stock of bottlenose dolphins;

Western North Atlantic, coastal stock of bottlenose dolphins;

Gulf of Maine/Bay of Fundy stock of harbor porpoise;

Western North Atlantic stock of harbor seals;

Western North Atlantic stock of gray seals;

Western North Atlantic stock of harp seals.

Pacific Stocks

The Pacific SARs present revised stock assessments for 13 Pacific marine mammal stocks under NMFS' jurisdiction. Information on the remaining 43 Pacific region stocks will be printed unrevised in the final 2002 stock assessments. In the 2002 SARs, there are now four stocks of harbor porpoise occurring in California waters, where previously there had been two. These new stock boundaries reflect recent genetic analyses on the small-scale population structure of harbor porpoise in the eastern North Pacific (Chivers et al., in press).

Fishery mortality estimates for Hawaiian monk seals have been revised by separating deaths caused by entanglement in derelict fishing gear from mortality and serious injury incidental to commercial fishing and including those deaths in “other human-caused mortality”. This change was made to include as incidental mortality and serious injury only those deaths and serious injuries that are caused by active fishing operations and, therefore, subject to authorization and regulation through section 118 of the MMPA.

The stock assessment for the Eastern North Pacific transient killer whale now appears in the Alaska region report. Table 3 contains a summary, by species, of the information included in the stock assessments and new abundance estimates are available for 12 stocks for 2002 SARs:

Hawaii stock of monk seals;

CA breeding stock of northern elephant seals;

Washington Inland waters stock of harbor seals;

Oregon/Washington coast stock of harbor seals;

Southern Resident stock of killer whales;

Washington Inland waters stock of harbor porpoise;

Oregon/Washington cost stock of harbor porpoise;

Northern CA/Southern OR stock of harbor porpoise;

San Francisco-Russian River stock of harbor porpoise;

Monterey Bay stock of harbor porpoise;

Morro Bay stock of harbor porpoise;

Eastern North Pacific stock of humpback whales.

New information on changes in the Hawaiian longline fishery is presented in the Hawaii false killer whale report.

Dated: April 12, 2002.
Wanda L. Cain,
Acting Deputy Director, Office of Protected Resources, National Marine Fisheries Service.

[FR Doc. 02-9684 Filed 4-18-02; 8:45 am]

BILLING CODE 3510-22-C